DEPARTMENT OF LABOR

Office of the Secretary

Submission for OMB Review; Comment Request

May 5, 2003.

The Department of Labor (DOL) has submitted the following public information collection request (ICR) to the Office of Management and Budget (OMB) for review and approval in accordance with the Paperwork Reduction Act of 1995 (Pub L. 104-13, 44 U.S.C. Chapter 35). A copy of this ICR, with applicable supporting documentation, may be obtained by calling the Department of Labor. To obtain documentation contact Darrin King on 202-693-4129 (this is not a toll-free number) or E-Mail: King.Darrin@dol.gov.

Comments should be sent to Office of Information and Regulatory Affairs, Attn: OMB Desk Officer for the Department of Labor, Departmental Manager, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Extension of a currently approved collection.

Agency: Office of the Assistant Secretary for Administration and Management, Departmental Management.

Title: Customer Satisfaction Surveys and Conference Evaluations Generic Clearance.

OMB Number: 1225-0059.

Affected Public: Individuals or households; Business or other for-profit; Not-for-profit institutions; Farms; Federal Government; State, Local, or Tribal government;

Total Respondents: Varies by survey/evaluation; may range from as few as 10 to over 78,000 for an estimated total of 198,503.

Frequency: On occasion.

Annual Responses: Varies by survey/evaluation; may range from as few as 10 to over 78,000 for an estimated total of 198,503.

Average Time Per Response: Varies by survey/evaluation with an average of 3 minutes per customer survey or conference evaluation.

Total Burden Hours: 9,925.

Total Burden Cost (capital/startup): $0.

Total Burden Cost (operating/maintenance): $0.

Description: The Department of Labor is seeking OMB approval to continue conducting a variety of voluntary customer satisfaction surveys and conference evaluations, which will be specifically designed to gather information from a customer's perspective as prescribed by E.O. 12862, Setting Customer Satisfaction Standards, September 11, 1993.

Ira L. Mills,
Departmental Clearance Officer.

[FR Doc. 03-12292 Filed 5-15-03; 8:45 am]

BILLING CODE 4510-23-M